DEPARTMENT OF THE INTERIOR

Fish and Wildlife Service

Notice of Availability of Addendum #3 to the Assessment Plan: Lower Fox River/Green Bay Natural Resource Damage Assessment

AGENCY: Fish and Wildlife Service, Interior.

ACTION: Notice of 30-day comment period.

SUMMARY: Notice is given that the document entitled: “Third Assessment Plan Addendum: Lower Fox River/Green Bay NRDA” (“The Addendum”) will be available for public review and comment on the date of publication in the Federal Register.

The U.S. Department of the Interior (“Department”), the U.S. National Oceanic and Atmospheric Administration, the Menominee Indian Tribe of Wisconsin, the Oneida Tribe of Indians of Wisconsin, and the Wisconsin Department of Natural Resources have asserted trusteeship for natural resources considered in this assessment, pursuant to subpart G of the National Oil and Hazardous Substances Pollution Contingency Plan, 40 CFR 300.600, 300.605, and 300.610, and Executive Order 12580, 52 F.R. 2923 (Jan. 23, 1987).

The assessment, including the activities addressed in this addendum, will be conducted in accordance with the Natural Resource Damage Assessment Regulations found at 43 CFR part 11, to the extent applicable. The public review of the Addendum announced by this Notice is provided for in 43 CFR 11.32(C).

Interested members of the public are invited to review and comment on the Addendum. Copies of the Addendum, and the “Assessment Plan: Lower Fox River/Green Bay NRDA” (“The Plan”) issued on August 23, 1996 (FR Doc. 96-21520), can be requested from the address listed below, or downloaded from the following web site: http://www.fws.gov/r3pao/nrda. All written comments will be considered and included in the Report of Assessment, at the conclusion of the assessment process.

DATES: Written comments on the Addendum must be submitted on or before June 26,2000.

ADDRESSES: Requests for copies of the Addendum and/or the Plan may be made to: David Allen, U.S. Fish and Wildlife Service, 1015 Challenger Court, Green Bay, Wisconsin 54311.

SUPPLEMENTARY INFORMATION: The purpose of this natural resource damage assessment is to confirm and quantify the suspected injuries to natural resources in the Lower Fox River, Green Bay, and Lake Michigan environment resulting from exposure to hazardous substances released by area paper mills and other potential sources. It is suspected that this exposure has caused injury to trustee resources. The injury and resultant damages will be assessed under the Comprehensive Environmental Response, Compensation, and Liability Act, as amended, and the Clean Water Act, as amended.

The objective of this Addendum is to initiate a process through which the governmental partners will attempt to arrive at a single coordinated Restoration and Compensation Determination Plan that integrates the ongoing state and federal/tribal natural resource damage assessments and to notify the public regarding this process.

William F. Hartwig,
Regional Director, Region 3, Fish and Wildlife Service.

[FR Doc. 00-13133 Filed 5-24-00; 8:45 am]

BILLING CODE 4310-55-M